DEPARTMENT OF ENERGY

Senior Executive Service Performance Review Board

AGENCY: Department of Energy.

ACTION: Designation of Performance Review Board Standing Register.

SUMMARY: This notice provides the Performance Review Board Standing Register for the Department of Energy. This listing supersedes all previously published lists of PRB members.

DATES: This appointment is effective as of September 30, 2018.

Bell, Melody

Brott, Matthew

Grose, Amy

Johnson Jr., Thomas

Kaplan, Stan

Kim, Dong

LeBeau, Tracey

Lee, Terri

Lewis, Roger

Lippold, David

Livengood, Joanna

Lushetsky, John

Marlay, Robert

Mays, Cynthia

Moore, Johnny

O'Konski, Peter

Rasar, Kimberly

Reilly, Thomas

White, John

Worthington, Patricia

Signed in Washington, DC, on October 2, 2018.
Erin S. Moore,
Director, Office of Corporate Executive Management, Office of the Chief Human Capital Officer.

[FR Doc. 2018-22480 Filed 10-15-18; 8:45 am]

BILLING CODE 6450-01-P